DEPARTMENT OF COMMERCE

National Institute of Standards and Technology

Notice of Invention Available for Licensing

AGENCY: National Institute of Standards and Technology, Commerce.

ACTION: Notice of Invention Available for Licensing.

SUMMARY: The invention listed below is owned in whole by the U.S. Government, as represented by the Secretary of Commerce. The U.S. Government's interest in this invention is available for licensing in accordance with 35 U.S.C. 207 and 37 CFR 404 to achieve expeditious commercialization of results of federally funded research and development.

FOR FURTHER INFORMATION CONTACT: Technical and licensing information on this invention may be obtained by writing to: National Institute of Standards and Technology, Office of Technology Partnerships, Attn: Mary Clague, Building 222, Room A240, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for licensing is:

[NIST Docket Number: 06-011]

Title: Gradient Elution Moving Boundary Electrophoresis (GEMBE).

Abstract: GEMBE is a method for performing electrophoretic separation and/or purification of compounds in a mixture. The essence of the invention is the use of a variable bulk flow in electrophoresis. The method uses the electrophoretic migration of chemical species in solution in combination with variable hydrodynamic bulk flow of the solution through a separation capillary or microfluidic channel. GEMBE can be used with the bulk flow solution flow in either direction with respect to the electrophoretic driving force. Continuous sample introduction eliminates the need for a sample injection mechanism, allowing for significant miniaturization.

Dated: June 18, 2008.
Richard F. Kayser,
Chief Scientist.

[FR Doc. E8-14635 Filed 6-26-08; 8:45 am]

BILLING CODE 3510-10-P